DEPARTMENT OF THE INTERIOR

Fish and Wildlife Service

[FWS-R1-ES-2010-N054; 10120-1113-0000-F5]

Endangered Wildlife and Plants; Permits

AGENCY: Fish and Wildlife Service, Interior.

ACTION: Notice of availability of a permit application; request for comments.

SUMMARY: In accordance with the requirements of the Endangered Species Act of 1973, as amended (Act), we, the U.S. Fish and Wildlife Service (Service), invite the public to comment on applications for permits to conduct enhancement of survival activities with endangered species.

DATES: To ensure consideration, please send your written comments by May 20, 2010.

ADDRESSES: Program Manager, Endangered Species, Ecological Services, U.S. Fish and Wildlife Service, 911 NE, 11th Avenue, Portland, OR 97232-4181.

FOR FURTHER INFORMATION CONTACT: Linda Belluomini, Fish and Wildlife Biologist, at the above address or by telephone (503-231-6131) or fax (503-231-6243).

SUPPLEMENTARY INFORMATION: The following applicants have applied for recovery permits to conduct certain activities with endangered species under section 10(a)(1)(A) of the Act (16 U.S.C. 1531 et seq.). We are soliciting review of and comments on these applications by local, State, and Federal agencies and the public.

Permit No. TE-02997A

Applicant: University of Hawaii, Hilo, Hawaii.

The applicant requests a permit to take (collect live specimens) the hammerhead pomace fly (Drosophila heteroneura) in conjunction with scientific research including genetic, morphological and behavioral research on the island of Hawaii in the State of Hawaii for the purpose of enhancing its survival. The applicant also requests a permit to take (collect and voucher) no more than two each of the following unnamed pomace fly species: Drosophila musaphilia, D. aglaia, D. hemipeza, D. montgomeryi, D. obatai, D.supstenoptera, D. tarphytrichia, D. differens, D. neoclavisetae, and D. ochrobasis, incidental to the collection of non-listed Drosohphila species in conjunction with genetic research on the islands of Kauai, Oahu, Molokai, Maui, and Hawaii in the State of Hawaii for the purpose of enhancing their survival.

Permit No. TE-018078

Applicant: Hawaii Volcanoes National Park, Hawaii National Park, Hawaii.

The applicant requests an amendment to an existing scientific research permit to take (harass) the Hawaiian goose (Branta sandvichensis) and the Hawaiian dark rumped petrel (Pterodroma phaeopygia) in conjunction with predator control activities on the island of Hawaii in the State of Hawaii, and remove/reduce to possession Cyanea shipmanii (haha) and Haplostachys haplostachya (honohono) in conjunction with propagation and outplanting on the island of Hawaii in the State of Hawaii for the purpose of enhancing their survival.

Permit No. TE-141832

Applicant: Oregon State University, Corvallis, Oregon.

The applicant requests an amendment to an existing scientific research permit to take (capture, handle, and release) the Oregon chub (Oregonichthys crameri) in conjunction with research in the State of Oregon, for the purpose of enhancing its survival.

Public Comments

We are soliciting public review and comment on these recovery permit applications. Before including your address, phone number, e-mail address, or other personal identifying information in your comment, you should be aware that your entire comment—including your personal identifying information—may be made publicly available at any time. While you can ask us in your comment to withhold your personal identifying information from public review, we cannot guarantee that we will be able to do so.

Please refer to the permit number for the application when submitting comments. All comments and materials we receive in response to this request will be available for public inspection, by appointment, during normal business hours at the above address.

Dated: April 2, 2010.
Carolyn A. Bohan,
Acting Regional Director, Region 1, U.S. Fish and Wildlife Service.

[FR Doc. 2010-9021 Filed 4-19-10; 8:45 am]

BILLING CODE 4310-55-P